DEPARTMENT OF COMMERCE

International Trade Administration

[A-580-841]

Notice of Amended Final Determination of Sales at Less Than Fair Value: Structural Steel Beams From South Korea

AGENCY: Import Administration, International Trade Administration, Department of Commerce.

ACTION: Amended final determination of antidumping duty investigation.

SUMMARY: On July 5, 2000, the Department of Commerce (“the Department”) published the final determination of its antidumping duty investigation of structural steel beams (“SSB”) from Korea (65 FR 41439). This investigation covers two respondents, Inchon Iron and Steel Co., Ltd. (“Inchon”) and Kangwon Industries, Ltd. (“Kangwon”).

Inchon and Kangwon submitted ministerial error allegations on July 6, 2000 with respect to the final determination. Petitioners also submitted allegations of ministerial errors on July 7, 2000. Inchon replied to petitioners allegations on July 11, 2000. Based on the correction of certain of these ministerial errors made in the final determination, we are amending our final determination.

EFFECTIVE DATE: August 18, 2000.

FOR FURTHER INFORMATION CONTACT: Brandon Farlander (Inchon), Laurel LaCivita (Kangwon) or Rick Johnson, Import Administration, International Trade Administration, U.S. Department of Commerce, 14th Street and Constitution Avenue, N.W., Washington, D.C. 20230; telephone: (202) 482-0182 (Farlander), (202) 482-4243 (LaCivita) or (202) 482-3818 (Johnson).

SUPPLEMENTARY INFORMATION:

Applicable Statute and Regulations

Unless otherwise indicated, all citations to the Tariff Act of 1930, as amended (the Act), are references to the provisions effective January 1, 1995, the effective date of the amendments made to the Act by the Uruguay Round Agreements Act. In addition, unless otherwise indicated, all references to the Department's regulations are to the regulations set forth at 19 CFR part 351 (1998).

Scope of the Investigation

The products covered by this investigation are doubly-symmetric shapes, whether hot- or cold-rolled, drawn, extruded, formed or finished, having at least one dimension of at least 80 mm (3.2 inches or more), whether of carbon or alloy (other than stainless) steel, and whether or not drilled, punched, notched, painted, coated or clad. These products include, but are not limited to, wide-flange beams (“W” shapes), bearing piles (“HP” shapes), standard beams (“S” or “I” shapes), and M-shapes.

All products that meet the physical and metallurgical descriptions provided above are within the scope of this investigation unless otherwise excluded. The following products, are outside and/or specifically excluded from the scope of this investigation: structural steel beams greater than 400 pounds per linear foot or with a web or section height (also known as depth) over 40 inches.

The merchandise subject to this investigation is classified in the Harmonized Tariff Schedule of the United States (“HTSUS”) at subheadings: 7216.32.0000, 7216.33.0030, 7216.33.0060, 7216.33.0090, 7216.50.0000, 7216.61.0000, 7216.69.0000, 7216.91.0000, 7216.99.0000, 7228.70.3040, 7228.70.6000. Although the HTSUS subheadings are provided for convenience and Customs purposes, the written description of the merchandise under investigation is dispositive.

Period of Investigation

The period of investigation (“POI”) is July 1, 1998 through June 30, 1999.

Amended Final Determination

On July 5, 2000, the Department published the final determination of its antidumping duty investigation of SSBs from Korea (65 FR 41439), which was signed on June 26, 2000. In accordance with 19 CFR 351.224(c), respondents (Inchon and Kangwon) and petitioners submitted ministerial error allegations on July 6, 2000 and July 7, 2000, respectively. Respondents replied to petitioners' allegations on July 11, 2000. Based on the correction of certain of these ministerial errors made in the final determination, we are amending our final determination for both respondents.

Inchon alleges four ministerial errors that we agree with, two pertaining to Kangwon and two pertaining to Inchon. Specifically, for Kangwon, we agree that: (1) We inadvertently deducted the wrong amount for amortization of gain on exemption of debt; and (2) we inadvertently amortized foreign exchange transaction losses in the interest expense ratio calculation. For Inchon, we agree that: (1) We inadvertently relied on the reported cost of manufacture for the U.S. cost of production, rather than the cost of manufacture as adjusted elsewhere in the Department's SAS programs; and (2) we inadvertently used the relative quantity of an input purchased from affiliates to identify the portion of the input which required an adjustment and then applied this adjustment to a certain cost, which is a value. For a further discussion of these issues, see Ministerial Error Memorandum for the Amended Final Determination of Sales at Less Than Fair Value: Structural Steel Beams from Korea (“Ministerial Error Memo”), dated August 11, 2000.

We disagree with respect to the following alleged ministerial errors: (1) Petitioners' allegation that the Department's calculations of general and administrative (“G&A”) and interest expense do not reflect the revised total cost of manufacturing or revised total cost of manufacturing for constructed value; (2) Inchon's allegation that the Department's treatment of interest revenue as an offset to credit expense is an error and that, instead, interest revenue should be treated as a revenue field in the calculation of CEP profit. For a further discussion, see the Ministerial Error Memo. Thus, we did not make any adjustments for these alleged errors in the amended final determination.

Continuation of Suspension of Liquidation

In accordance with section 735(c)(1)(B)(ii) of the Act, we are directing the U.S. Customs Service (“Customs”) to suspend liquidation of all imports of subject merchandise from South Korea that are entered, or withdrawn from warehouse, for consumption on or after the date of publication of this notice in the Federal Register. Customs shall require a cash deposit or the posting of a bond equal to the weighted-average amount by which the normal value (“NV”) exceeds the U.S. price (either export price (“EP”) and or constructed export price (“CEP”) as indicated in the chart below. These suspension of liquidation instructions will remain in effect until further notice.

Article VI.5 of the General Agreement on Tariffs and Trade (GATT 1994) provides that “[n]o product * * * shall be subject to both antidumping and countervailing duties to compensate for the same situation of dumping or export subsidization.” This provision is implemented in section 772(c)(1)(C) of the Tariff Act. Since antidumping duties cannot be assessed on the portion of the margin attributed to export subsidies there is no reason to require a cash deposit or bond for that amount. The Department has determined in its concurrent countervailing duty investigation for structural steel beams from Korea that the product under investigation benefitted from export subsidies. Normally, where the product under investigation is also subject to a concurrent countervailing duty investigation, we instruct the Customs Service to require a cash deposit or posting of a bond equal to the weighted-average amount by which the NV exceeds the EP, as indicated below, minus the amount determined to constitute an export subsidy. See, e.g. Notice of Antidumping Duty Order: Stainless Steel Wire Rod From Italy, 63 FR 49327, 49327 (September 15, 1998). Accordingly, for cash deposit purposes we are subtracting from Kangwon's cash deposit rate that portion of the rate attributable to the export subsidies found in the countervailing duty investigation involving Kangwon (i.e., 0.09 percent). We have made the same adjustment to the “All Others” cash deposit rate by subtracting the rate attributable to export subsidies found in the countervailing duty investigation of Kangwon.

We will instruct the Customs Service to require a cash deposit or the posting of a bond for each entry equal to the weighted-average amount by which the NV exceeds the EP or CEP, adjusting for the export subsidy rate, as indicated below. These suspension-of-liquidation instructions will remain in effect until further notice. The final amended weighted-average dumping margins are as follows:

Exporter/manufacturer | Weighted-average margin (percent) | Bonding/cash deposit rate (percent)
Inchon | 25.31 | 25.31
Kangwon | 49.01 | 48.92
All others | 37.25 | 37.21

The rate for all other producers and exporters applies to all entries of the subject merchandise except for entries from exporters that are identified individually above.

ITC Notification

In accordance with section 735(d) of the Act, we have notified the U.S. International Trade Commission (“ITC”) of our amended final determination.

This amended final determination is issued and published in accordance with section 735(d) and 777(i)(1) of the Act.

Dated: August 10, 2000.
Troy H. Cribb,
Acting Assistant Secretary for Import Administration.

[FR Doc. 00-21107 Filed 8-17-00; 8:45 am]

BILLING CODE 3510-DS-P